DEPARTMENT OF TRANSPORTATION

Federal Motor Carrier Safety Administration

[Docket No. FMCSA-2010-0287]

Qualification of Drivers; Exemption Applications; Vision

AGENCY: Federal Motor Carrier Safety Administration (FMCSA), DOT.

ACTION: Notice of applications for exemptions; request for comments.

SUMMARY: FMCSA announces receipt of applications from 15 individuals for exemption from the vision requirement in the Federal Motor Carrier Safety Regulations. If granted, the exemptions would enable these individuals to qualify as drivers of commercial motor vehicles (CMVs) in interstate commerce without meeting the Federal vision standard.

DATES: Comments must be received on or before December 15, 2010.

ADDRESSES: You may submit comments bearing the Federal Docket Management System (FDMS) Docket No. FMCSA-2010-0287 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 15 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Robert W. Blankenship

Mr. Blankenship, age 50, has had amblyopia in his left eye since childhood. The best corrected visual acuity in his right eye is 20/20 and in his left eye, 20/200. Following an examination in 2010, his optometrist noted, “In my opinion, Mr. Blankenship has sufficient vision to perform the driving tasks to operate a commercial vehicle.” Mr. Blankenship reported that he has driven straight trucks for 29 years, accumulating 580,000 miles and tractor-trailer combinations for 29 years, accumulating 2.3 million miles. He holds a Class A Commercial Driver's License (CDL) from California. His driving record for the last 3 years shows one crash and one conviction for a moving violation in a CMV. He exceeded the speed limit by 10 mph.

Bryan K. Deborde

Mr. Deborde, 39, has had amblyopia in his left eye since birth. The best corrected visual acuity in his right eye is 20/20 and in his left eye, 20/50. Following an examination in 2010, his optometrist noted, “It is my opinion that Mr. Deborde has sufficient vision to perform the driving tasks required to operate a commercial vehicle.” Mr. Deborde reported that he has driven tractor-trailer combinations for 19 years, accumulating 1.6 million miles. He holds a Class A CDL from Washington. His driving record for the last 3 years shows no crashes and one conviction for a moving violation in a CMV. He exceeded the speed limit by 10 miles per hour (mph).

Michael K. Engemann

Mr. Engemann, 32, has had a distorted cornea in his right eye since 1989 due trauma. The best corrected visual acuity in his right eye is 20/400 and in his left eye, 20/20. Following an examination in 2010, his optometrist noted, “Mike has sufficient vision to operate a commercial vehicle.” Mr. Engemann reported that he has driven straight trucks for 12 years, accumulating 480,000 miles and tractor-trailer combinations for 12 years, accumulating 960,000 miles. He holds a Class A CDL from Missouri. His driving record for the last 3 years shows no crashes and no convictions for moving violations in a CMV.

Pete R. Gonzalez

Mr. Gonzalez, 25, has had optic nerve atrophy in his right eye since 1998 due to trauma. The best corrected visual acuity in his right eye is 20/300 and in his left eye, 20/20. Following an examination in 2010, his optometrist noted, “Pete has sufficient vision in the right eye to perform the driving tasks required to operate a commercial vehicle.” Mr. Gonzalez reported that he has driven straight trucks for 4 years, accumulating 360,000 miles and tractor-trailer combinations for 4 years, accumulating 360,000 miles. He holds a Class A CDL from New Mexico. His driving record for the last 3 years shows no crashes and no convictions for moving violations in a CMV.

John W. Harbaugh

Mr. Harbaugh, 62, has had amblyopia and optic atrophy in his right eye since birth. The best corrected visual acuity in his right eye is count-finger vision only and in his left eye, 20/20. Following an examination in 2010, his ophthalmologist noted, “Formal visual field perimetry testing reveals 140 degrees of dynamic perception in the left eye permitting Mr. Harbaugh to operate a commercial vehicle without restrictions.” Mr. Harbaugh reported that he has driven straight trucks for 32 years, accumulating 1.2 million miles. He holds a Class B CDL from Illinois. His driving record for the last 3 years shows no crashes and no convictions for moving violations in a CMV.

Michael E. Herrera, Jr.,

Mr. Herrera, 53, has had primary open angle glaucoma in his left eye since 2009. The best corrected visual acuity in his right eye is 20/60 and in his left eye, 20/20. Following an examination in 2010, his ophthalmologist noted, “In my professional opinion. Mr. Herrera has sufficient vision to drive a commercial vehicle. Mr. Herrera reported that he has driven straight trucks for 23 years, accumulating 23,000 miles and tractor-trailer combinations for 8 years, accumulating 8,000 miles. He holds a Class A CDL from New Mexico. His driving record for the last 3 years shows no crashes and no convictions for moving violations in a CMV.

William E. Jacobs

Mr. Jacobs, 63, has had toxoplasmosis in his right eye since childhood. The best corrected visual acuity in his right eye is 20/200 and in his left eye, 20/20. Following an examination in 2010, his ophthalmologist noted, “I feel he has sufficient vision to perform the driver's tasks required to operate a commercial vehicle.” Mr. Jacobs reported that he has driven buses for 13 years, accumulating 247,000 miles. He holds a Class B CDL from Texas. His driving record for the last 3 years shows no crashes and no convictions for moving violations in a CMV.

Perry D. Jensen

Mr. Jensen, 50, has had amblyopia in his left eye since childhood. The best corrected visual acuity in his right eye is 20/20 and in his left eye, 20/200. Following an examination in 2010, his optometrist noted, “This patient has sufficient vision to drive a commercial vehicle.” Mr. Jensen reported that he has driven straight trucks for 30 years, accumulating 600,000 miles and tractor-trailer combinations for 30 years, accumulating 150,000 miles. He holds a Class A CDL from Wisconsin. His driving record for the last 3 years shows no crashes and no convictions for moving violations in a CMV.

Joseph L. Jones

Mr. Jones, 55, has had exotropia and amblyopia in his right eye since childhood. The best corrected visual acuity in his right eye is 20/400 and in his left eye, 20/20. Following an examination in 2010, his ophthalmologist noted, “Mr. Jones exhibits sufficient vision to operate a commercial vehicle.” Mr. Jones reported that he has driven straight trucks for 32 years, accumulating 480,000 miles and tractor-trailer combinations for 32 years, accumulating 1.9 million miles. He holds a Class A CDL from Maryland. His driving record for the last 3 years shows no crashes and no convictions for moving violations in a CMV.

Gary L. Nicholas

Mr. Nicholas, 53, has complete loss of vision in his right eye since childhood. The best corrected visual acuity in his left eye is 20/20. Following an examination in 2010, his ophthalmologist noted, “I feel that he has sufficient vision to perform the driving tasks required to operate a commercial vehicle.” Mr. Nicholas reported that he has driven straight trucks for 36 years, accumulating 360,000 miles. He holds a Class C chauffeur's license from Michigan. His driving record for the last 3 years shows one crash, for which he was not cited, and no convictions for moving violations in a CMV.

James G. Pitchford

Mr. Pitchford, 67, has had a prosthetic right eye since childhood. The best corrected visual acuity in his left eye is 20/20. Following an examination in 2010, his optometrist noted, “It is my opinion that this patient has sufficient vision to perform his driving tasks and operate a commercial vehicle.” Mr. Pitchford reported that he has driven straight trucks for 20½ years, accumulating 483,585 miles and tractor-trailer combinations for 20½ years, accumulating 1.1 million miles. He holds a Class A CDL from Ohio. His driving record for the last 3 years shows no crashes and no convictions for moving violations in a CMV.

Virgil R. Story

Mr. Story, 50, has had amblyopia in his right eye since childhood. The best corrected visual acuity in his right eye is 20/400 and in his left eye, 20/20. Following an examination in 2010, his optometrist noted, “I feel in my medical opinion that patient has sufficient vision to perform his currently assigned driving tasks required to operate a commercial vehicle.” Mr. Story reported that he has driven tractor-trailer combinations for 20 years, accumulating 1.6 million miles. He holds a Class A CDL from Arkansas. His driving record for the last 3 years shows no crashes and no convictions for moving violations in a CMV.

John A. Thomas, Jr.

Mr. Thomas, 50, has had amblyopia in his right eye since childhood. The best corrected visual acuity in his right eye is 20/200 and in his left eye, 20/20. Following an examination in 2010, his optometrist noted, “I find that his vision is adequate to operate any commercial vehicle without glasses.” Mr. Thomas reported that he has driven straight trucks for 32 years, accumulating 640,000 miles and tractor-trailer combinations for 32 years, accumulating 1.7 million miles. He holds a Class A CDL from North Carolina. His driving record for the last 3 years shows no crashes and no convictions for moving violations in a CMV.

Richard L. Totels

Mr. Totels, 57, has had macular scarring in his left eye since childhood. The best corrected visual acuity in his right eye is 20/20 and in his left eye, 20/200. Following an examination in 2010, his ophthalmologist noted, “In my medical opinion, this patient has adequate vision to perform the driving tasks required to operate a commercial vehicle.” Mr. Totels reported that he has driven tractor-trailer combinations for 37 years, accumulating 3.7 million miles. He holds a Class A CDL from Texas. His driving record for the last 3 years shows no crashes and no convictions for moving violations in a CMV.

James B. Woolwine

Mr. Woolwine, 44, has had amblyopia in his left eye since childhood. The best corrected visual acuity in his right eye is 20/20 and in his left eye, 20/400. Following an examination in 2010, his ophthalmologist noted, “He has sufficient visual capabilities to operate a commercial vehicle.” Mr. Woolwine reported that he has driven straight trucks for 4 years, accumulating 200,000 miles and tractor-trailer combinations for 4 years, accumulating 60,000 miles. He holds a Class A CDL from Virginia. His driving record for the last 3 years shows no crashes and no convictions for moving violations in a CMV.

Request for Comments

In accordance with 49 U.S.C. 31136(e) and 31315, FMCSA requests public comment from all interested persons on the exemption petitions described in this notice. The Agency will consider all comments received before the close of business December 15, 2010. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: November 5, 2010.
Larry W. Minor,
Associate Administrator, Office of Policy and Program Development.

[FR Doc. 2010-28699 Filed 11-12-10; 8:45 am]

BILLING CODE 4910-EX-P